DEPARTMENT OF ENERGY

Office of Science; Fusion Energy Sciences Advisory Committee Renewal

Pursuant to section 14(a)(2)(A) of the Federal Advisory Committee Act (FACA), Public Law 92-463, and section 102-3.65, Title 41 Code of Federal Regulations, and following consultation with the Committee Management Secretariat, General Services Administration (GSA), notice is hereby given that the Fusion Energy Sciences Advisory Committee has been renewed for a two-year period beginning November 2001. The Committee will provide advice to the Department on long-range plans, priorities, and strategies for demonstrating the scientific and technological feasibility of fusion energy.

The renewal of the Fusion Energy Sciences Advisory Committee has been determined to be essential to the conduct of the Department's business and in the public interest in connection with the performance of duties imposed upon the Department of Energy by law. The Committee will continue to operate in accordance with the provisions of the FACA, the GSA regulation on Federal Advisory Committee Management, and other directives and instructions issued in implementation of those acts.

Further information regarding this advisory committee can be obtained from Ms. Rachel Samuel at (202) 586-3279.

Issued in Washington, D.C. on November 1, 2001.
James N. Solit,
Advisory Committee, Management Officer.

[FR Doc. 01-27968 Filed 11-6-01; 8:45 am]

BILLING CODE 6450-01-P